COMMISSION ON CIVIL RIGHTS

Sunshine Act Notice

AGENCY: United States Commission on Civil Rights.

ACTION: Notice of meeting.

Date and Time: Friday, January 29, 2010; 11:30 a.m. EST.

Place: Via Teleconference, Public Dial In—1-800-597-7623, Conference ID # 52144588.

Meeting Agenda: This meeting is open to the public.

I. Approval of Agenda.

II. Program Planning.

• Approval of Findings and Recommendations for The Impact of Illegal Immigration on the Wages and Employment Opportunities of Black Workers Report.

• Update on Status of Title IX Project.

• Update on Status of 2010 Enforcement Report.

III. State Advisory Committee Issues.

• Pennsylvania SAC.

IV. Approval of January 15, 2010 Meeting Minutes.

V. Adjourn.

Contact Person for Further Information: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: January 19, 2010.
Martin Dannenfelser,
Staff Director.

[FR Doc. 2010-1214 Filed 1-19-10; 11:15 am]

BILLING CODE 6335-01-P